DEPARTMENT OF COMMERCE

International Trade Administration

[A-588-852]

Structural Steel Beams from Japan: Initiation of Changed Circumstances Review

AGENCY: Import Administration, International Trade Administration, Department of Commerce.

ACTION: Notice of initiation of changed circumstances review.

SUMMARY: The Department of Commerce has received information sufficient to warrant initiation of a changed-circumstances review of the antidumping order on structural steel beams from Japan. The review will be conducted to determine whether Yamato Steel is the successor-in-interest to Yamato Kogyo for purposes of determining antidumping and countervailing duty liabilities.

EFFECTIVE DATE: December 30, 2003.

FOR FURTHER INFORMATION CONTACT: John D. A. LaRose or Alex Villanueva, Import Administration, International Trade Administration, U.S. Department of Commerce, 14th Street and Constitution Avenue, N.W., Washington, D.C. 20230; telephone (202) 482-3794 or (202) 482-3208, respectively.

SUPPLEMENTARY INFORMATION:

Background

On June 19, 2000, the Department of Commerce (“Department”) published in the Federal Register an antidumping duty order resulting from the Department's investigation of Structural Steel Beams from Japan. See Structural Steel Beams from Japan: Notice of Antidumping Duty Order, 65 FR 37960 (June 19, 2000). On November 17, 2003 Yamato Kogyo Co., Ltd. (“Yamato Kogyo”) submitted a request that the Department initiate a changed circumstances review to confirm that the newly-formed Yamato Steel Co., Ltd. (“Yamato Steel”) is its successor-in-interest and should be entitled to the same cash deposit rate.

Scope of the Review

For purposes of this review, the products covered are doubly-symmetric shapes, whether hot or cold-rolled, drawn, extruded, formed or finished, having at least one dimension of at least 80 mm (3.2 inches or more), whether of carbon or alloy (other than stainless) steel, and whether or not drilled, punched, notched, painted, coated, or clad. These products (``Structural Steel Beams'') include, but are not limited to, wide-flange beams (“W” shapes), bearing piles (“HP” shapes), standard beams (“S” or “I” shapes), and M-shapes.

All products that meet the physical and metallurgical descriptions provided above are within the scope of this review unless otherwise excluded. The following products, are outside and/or specifically excluded from the scope of this review:

Structural steel beams greater than 400 pounds per linear foot or with a web or section height (also known as depth) over 40 inches.

The merchandise subject to this review is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and U.S. Customs Service (“Customs“) purposes, the written description of the merchandise under review is dispositive.

Initiation of Antidumping Duty Changed Circumstances Review

Pursuant to section 751(b)(1) of the Act and 351.216 of the Department's regulations, the Department will conduct a changed circumstances review upon receipt of information concerning, or a request from an interested party for a review of, an antidumping duty finding which shows changed circumstances sufficient to warrant a review of the order. Information submitted by Yamato Kogyo Co. Ltd. (“Yamato Kogyo”) and Yamato Steel Co., Ltd. (“Yamato Steel”) claims Yamato Steel as the successor-in-interest to Yamato Kogyo and shows changed circumstances sufficient to warrant a review. See 19 CFR 351.216(c) (2003).

In accordance with section 751(b) of the Tariff Act and 351.216 of the Department's regulations, the Department is initiating a changed circumstances review to determine whether Yamato Steel Co., Ltd. is the successor company to Yamato Kogyo Co., Ltd. In antidumping duty changed circumstances reviews involving a successor-in-interest determination, the Department typically examines several factors including, but not limited to, changes in: (1) management, (2) organizational structure, (3) ownership, (4) production facilities, (5) supplier relationships, and (6) customer base. See, e.g., Stainless Steel Sheet and Strip in Coils From the Republic of Korea: Notice of Preliminary Results of Changed Circumstances Antidumping Duty Administrative Review, 66 FR 67513, 67515 (December 31, 2001) and Brass Sheet and Strip from Canada; Final Results of Changed Circumstances Review, 57 FR 20460, 20461 (May 13, 1992). While no one or several of these factors will necessarily provide a dispositive indication, the Department will generally consider the new company to be the successor to the previous company if its resulting operation is similar to that of the predecessor. See Industrial Phosphoric Acid from Israel; Final Results of Antidumping Duty Changed Circumstances Review, 59 FR 6944, 6946 (February 14, 1994). Thus, if evidence demonstrates that, with respect to the production and sale of the subject merchandise, the new company operates as the same entity as the former company, the Department will treat the new company as the successor-in-interest to the predecessor. See Fresh and Chilled Atlantic Salmon from Norway: Final Results of Changed Circumstances Antidumping Duty Administrative Review, 64 FR 9979, 9980 (March 1, 1999).

The Department will publish in the Federal Register a notice of preliminary results of antidumping duty changed circumstances review, in accordance with section 351.216(c), and 351.221(b)(4) and 351.221(c)(3)(i) of the Department's regulations. This notice will set forth the factual and legal conclusions upon which our preliminary results are based and a description of any action proposed based on those results. Pursuant to 19 CFR 351.221(b)(4)(ii), interested parties will have an opportunity to comment on the preliminary results of review. In accordance with 19 CFR 351.216(e), the Department will issue the final results of its antidumping duty changed circumstances review not later than 270 days after the date of publication of this notice.

During the course of this changed circumstances review, we will not change any cash deposit instructions on the merchandise subject to this review, unless a change is determined to be warranted pursuant to the final results of this review.

This notice of initiation is in accordance with sections 751(b)(1) of the Act and section 351.221(b)(1) of the Department's regulations.

Dated: December 19, 2003.
James J. Jochum,
Assistant Secretary for Import Administration.

[FR Doc. 03-32067 Filed 12-29-03; 8:45 am]

BILLING CODE 3510-DS-S